DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Gulf of Mexico Red Snapper IFQ Program.

OMB Approval Number: 0648-0551.

Form Number(s): None.

Type of Request: Regular submission.

Burden Hours: 1,038 total (24 from revision).

Number of Respondents: 1,417.

Average Hours per Response: 1 minute.

Needs and Uses: The National Oceanic and Atmospheric Administration, National Marine Fisheries Service (NOAA Fisheries Service) manages the red snapper fishery in the waters of the Gulf of Mexico under the Reef Fish Fishery Management Plan (FMP). The Individual Fishing Quota (IFQ) program was implemented to reduce the overcapacity in the fishery and end the derby fishing conditions that resulted from that overcapitalization. As part of this program, the Southeast Regional Office needs to collect percentage of ownership in a corporation from IFQ participants. The IFQ program has a cap on share percent of ownership of six percent. This revision is intended to allow NOAA Fisheries Service to collect important corporate ownership information to ensure that the share ownership cap in the IFQ program is not violated.

Affected Public: Business or other for-profit organizations.

Frequency: One-time only.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 12, 2008.
Gwellnar Banks,
Management Analyst, Office of the Chief Information Officer.

[FR Doc. E8-10853 Filed 5-14-08; 8:45 am]

BILLING CODE 3510-22-P